DEPARTMENT OF HEALTH AND HUMAN SERVICES

Centers for Disease Control and Prevention

Notice of Intent To Publish a Funding Opportunity Announcement for Occupational Safety and Health Education and Research Centers

AGENCY: National Institute for Occupational Safety and Health (NIOSH) of the Centers for Disease Control and Prevention (CDC), Department of Health and Human Services (HHS).

ACTION: Notice.

SUMMARY: This notice provides information on the Centers for Disease Control and Prevention (CDC), National Institute for Occupational Safety and Health (NIOSH) intent to publish a funding opportunity announcement for Education and Research Centers (ERCs). The purpose of this program is to support existing NIOSH ERCs and establish new ERCs, as appropriate, to address the burden of Occupational Safety and Health (OSH) in the United States by providing state-of-the-art interdisciplinary graduate and research training for the next generation of OSH practitioners and researchers.

Table of Contents

Dates

For Further Information Contact

Supplementary Information

Recipient Reporting Requirements

Award Information

Needs Assessment

Regional Presence

Budget Limits for Required and Optional Components

DATES:

• Anticipated Publication Date of Announcement: May 2015

• First Anticipated Application Due Date: November 2015

• Earliest Anticipated Award Date: June 2016

• Earliest Anticipated Start Date: July 2016

FOR FURTHER INFORMATION CONTACT: Dr. Elizabeth H. Maples, National Institute for Occupational Safety and Health, Centers for Disease Control, 1600 Clifton Road NE., Mailstop E-74, Atlanta, GA 30333; Phone (not toll-free numbers): (404) 498-2557, Fax: (404) 498-2571, Email: EMaples@cdc.gov.

SUPPLEMENTARY INFORMATION: The National Institute for Occupational Safety and Health (NIOSH), Centers for Disease Control and Prevention (CDC), intends to publish a funding opportunity announcement for Education and Research Centers (ERCs) that are focused on occupational safety and health graduate training and research training.

NIOSH is mandated to provide an adequate supply of qualified personnel to carry out the purposes of the Occupational Safety and Health Act, and the ERCs are one of the principal means for meeting this mandate. ERCs are academic institutions that provide high-quality interdisciplinary graduate training, continuing education, and outreach in the core occupational safety and health disciplines of industrial hygiene (IH), occupational health nursing (OHN), occupational medicine residency (OMR), and occupational safety (OS), as well as closely related allied disciplines. Research and research training are integral components of ERCs, with ERC faculty and NIOSH trainees conducting research on issues related to the NIOSH National Occupational Research Agenda (NORA). The ERCs also serve as regional resources for industry, labor, government, and the public.

This Notice of Intent is being provided to allow potential applicants sufficient time to develop meaningful collaborations and responsive projects. The Funding Opportunity Announcement (FOA) is expected to be published in May 2015 with an expected application due date in November 2015.

The FOA will utilize the T42 activity code. ERCs are located in accredited academic institutions across the country and provide graduate degree and certificate training in core and allied disciplines of OSH. ERCs also provide interdisciplinary research training to identify, assess, address, and improve OSH. ERCs conduct outreach to help improve knowledge and awareness of work-related safety and health issues, and they provide continuing education for OSH professionals. Through comprehensive, integrated programs, ERCs improve the safety and health of our nation's workers.

Recipient Reporting Requirements: Recipients funded with NIOSH ERC appropriations will be required to report project status on an annual basis. Specific reporting requirements will be detailed in the Terms and Conditions of the Notice of Award.

Award Information:

• Approximate Current Fiscal Year Funding: $24,000,000.

• Approximate Number of Awards: 15-20.

• Approximate Average Awards: Up to $1,800,000/year.

• Fiscal Year Funds: 2016.

• Budget Period: 12 months.

• Project Period: Up to 5 years for established ERCs and up to 3 years for new ERCs.

Application Selection Process: Applications will be evaluated for scientific and technical merit by an appropriate peer review group, in accordance with CDC peer review policy and procedure using review criteria that will be stated in the Funding Opportunity Announcement (FOA).

As part of the scientific peer review, all applications will:

• Undergo a selection process in which all responsive applications will be discussed and assigned an overall impact/priority score, and

• Receive a written critique.

Needs Assessment: ERCs must document that their proposed academic and research training programs meet specific regional or national workforce need and demand.

Regional Presence: ERCs should demonstrate collaborative efforts by working with a diverse and broad range of organizations to enhance worker safety and health in their region.

This Notice encourages investigators with expertise and insights in the area of occupational safety and health to begin to consider applying for this upcoming FOA.

Budget Limits for Required and Optional Components: ERCs are complex, interdisciplinary centers. Up to $1,800,000/year total costs may be requested by an ERC. The following table lists required and optional ERC components and budget information:

ERC components | Funding information (total costs)
Planning and Evaluation Core (Required) | Up to $370,000/year.
Center Administration, Planning and Evaluation | Up to $250,000/year.
Interdisciplinary Activities | Up to $30,000/year.
Diversity Recruitment and Retention | Up to $5,000/year.
Outreach in Occupational Safety and Health | Up to $35,000/year.
Developmental Program Support (Optional) | Up to $50,000/year.
Academic Training Core (Required) | Up to $930,000/year with 70% to Direct Trainee Costs.
Required minimum of 3 Academic Training Programs. At least 2 from the core disciplines of IH, OHN, OMR, or OS, and 1 may be a core or allied discipline There is no minimum number of trainees required for any one academic program. Applicants must fully justify need for all programs and their capacity to meet training demand. NIOSH will consider applications for Doctor of Nursing Practice Programs. Complementary and Special Pathways for OMRs are eligible for NIOSH support if administered by an OMR Program accredited by the ACGME Applicants may request trainee support for academic certificate training programs in approved core and allied disciplines. Trainee support is limited to tuition only and is included in the minimum 70% allocation toward Direct Trainee Costs. Certificate trainees should be clearly identified in academic training program budgets. | There are no budget limits for individual academic training programs. Applicants must stay within the total $1.8 million per year request in total costs. A minimum of 70% of the overall Academic Training Core budget must go to Direct Trainee Costs that provide stipends, tuition and fees, research support, and travel. A maximum of 30% of the overall Academic Training Core budget may go to support Training-related Expenses that include support for faculty and staff salaries, supplies, equipment and non-trainee travel. This 70%/30% allocation of funding may be applied across all academic training programs in aggregate, and need not be applied to each individual academic training program.
Research Training Core (Optional) | Up to $400,000/year with 70% of Collaborative Research Training (CRT) to Direct Trainee Costs.
Pilot Projects Research Training (Optional) | Up to $100,000/year.
Collaborative Research Training (Optional) | Up to $300,000/year. CRT supports the research training needs of NIOSH trainees and students from other disciplines who receive NIOSH support during their academic training program. A minimum of 70% of requested funds must go to support Direct Trainee Costs that provide stipends, tuition and fees, research supplies, and travel; a maximum of 30% may go to support Training-related Expenses that include support for faculty and staff salaries, supplies, equipment and non-trainee travel.
Continuing Education Program (Required) Needs-based training should be offered to safety and health practitioners and allied disciplines to have a positive impact on workplace practices and policies. | Up to $100,000/year.

Dated: March 16, 2015.
John Howard,
Director, National Institute for Occupational Safety and Health, Centers for Disease Control and Prevention.

[FR Doc. 2015-06468 Filed 3-19-15; 8:45 am]

BILLING CODE 4163-19-P